DEPARTMENT OF HEALTH AND HUMAN SERVICES

Health Resources and Services Administration

Notice of Grant Awards

AGENCY: Health Resources and Services Administration, HHS.

ACTION: Notice of grant awards.

SUMMARY: The Maternal and Child Health Bureau (MCHB), Health Resources and Services Administration (HRSA), has awarded the following grants. Funds for these grants were appropriated under Public Law 107-116, the “Departments of Labor, HHS, Education, and Related Agencies Appropriations Act for FY 2002.” The awards are Special Projects of Regional and National Significance (SPRANS), authorized by Section 501(a)(2) of the Social Security Act, the MCH Federal Set-Aside Program (42 U.S.C. 701(a)(2)).

• Replicating “Lessons Learned” in Alcohol Screening During Pregnancy Demonstration Program. (CFDA #93.110) This grant promotes replication of strategies found to motivate providers to systematically screen for alcohol use during pregnancy, provide information on associated risks, and refer clients for interventions. Competition for this award was open to only two existing grantees of a preceding three-year initiative entitled: “Improving Screening for Alcohol Use During Pregnancy Among Providers Demonstration Program.” Each of the following two grantees was awarded $150,000 for the first year of the three-year grant period with second and third year grant awards subject to acceptable performance and the availability of funds:

• Illinois Department of Human Services, Office of Family Health; and

• Massachusetts Department of Public Health, Bureau of Family.

FOR FURTHER INFORMATION: Contact Ellen Hutchins, ScD, Division of Perinatal Systems and Women's Health, Maternal and Child Health Bureau, 5600 Fishers Lane, Room 11A-55, Rockville, MD 20857, (301) 443-9534.

• New Investigators in MCH Research: Dissertation Awards. (CFDA #93.110RD) This grant program supports doctoral candidates' research-based dissertation in maternal and child health (MCH) or an MCH-related discipline. Competition for this award was limited to existing grantees of “Long-Term Leadership Training Grants.” The following grantees received awards for a single project:

• The University of Maryland, School of Social Work; $29,411;

• The Johns Hopkins University, School of Public Health; $30,000;

• The Boston University, School of Public Health; $19,972;

• The University of Illinois at Chicago, School of Public Health; $20,560;

• The University of California, Los Angeles, School of Public Health; $22,482;

• The University of Minnesota, School of Public Health; $22,525; and

• The University of North Carolina at Chapel Hill, School of Social Work; $6,052.

FOR FURTHER INFORMATION: Contact Hae Young Park, M.P.H., Division of Research, Training and Education, Maternal and Child Health Bureau, HRSA, 5600 Fishers Lane, Room 18A-55, Rockville, MD 20857, (301) 443-2127.

• New Investigators in MCH Research: Training Program Enhancement Awards. (CFDA #93.110TU) This grant program supports the development, demonstration and dissemination of program models in five institutions of higher education to enhance the research training of their MCH trainees. Competition for this award was limited to existing grantees of “Long-Term Leadership Training Grants.” Each of the following two grantees received a maximum grant award of $20,000 for the first year of a 3-year project period:

• The University of Minnesota Center for Adolescent Health and Research—Leadership Education in Adolescent Health Training Program; $20,000;

• The Children's Hospital Los Angeles—Leadership Education in Neurodevelopmental Disabilities Training Program; $20,000;

• The Boston University School of Public Health—MCH Training Program; $20,000;

• The Virginia Commonwealth University—Leadership Education in Neurodevelopmental Disabilities Training Program; $20,000; and

• The University of Rochester—Leadership Education in Adolescent Health and Leadership Education in Neurodevelopmental Disabilities Training Programs; $20,000.

FOR FURTHER INFORMATION: Contact Hae Young Park, M.P.H., Division of Research, Training and Education, Maternal and Child Health Bureau, HRSA, 5600 Fishers Lane, Room 18A-55, Rockville, MD 20857, (301) 443-2127.

Dated: February 6, 2003.
Elizabeth M. Duke,
Administrator.

[FR Doc. 03-3594 Filed 2-12-03; 8:45 am]

BILLING CODE 4165-15-P